DEPARTMENT OF EDUCATION

[Docket ID ED-2017-OPE-0090]

Program Integrity: Gainful Employment

AGENCY: Office of Postsecondary Education, Department of Education.

ACTION: Announcement of applicable dates; request for comments.

SUMMARY: On January 6 and January 19, 2017, the Department announced dates by which institutions subject to the Department's gainful employment (GE) regulations must comply with certain disclosure requirements in the GE regulations. On July 5, 2017, the Department announced that it was allowing additional time, until July 1, 2018, to comply with those provisions. This document announces that the Department allows additional time, until July 1, 2019, for institutions to comply with those disclosure requirements in the GE regulations and invites comment on this action.

DATES: The Department is allowing additional time—until July 1, 2019—for institutions to comply with 34 CFR 668.412(d) and (e). We must receive your comments on or before July 18, 2018.

ADDRESSES: Submit your comments through the Federal eRulemaking Portal or via postal mail, commercial delivery, or hand delivery. We will not accept comments by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: If you mail or deliver your comments, address them to Jean-Didier Gaina, U.S. Department of Education, 400 Maryland Ave. SW, Room 290-34, Washington, DC 20202.

Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the internet.

FOR FURTHER INFORMATION CONTACT: Scott Filter, U.S. Department of Education, 400 Maryland Ave. SW, Room 290-42, Washington, DC 20202. Telephone: (202) 453-7249. Email at: Scott.Filter@ed.gov.

If you use a telecommunications device for the deaf (TDD) or a text telephone (TTY), call the Federal Relay Service (FRS), toll free, at 1-800-877-8339.

SUPPLEMENTARY INFORMATION: Under 34 CFR 668.412(d) and (e), institutions subject to the GE regulations would be required to include a disclosure template with information specified by the Department, or a link thereto, in their GE program promotional materials and to directly distribute the disclosure template to prospective students.

On January 6 and January 19, 2017, the Department announced dates by which institutions subject to the GE regulations must comply with certain provisions of the GE regulations, including the requirements in 34 CFR 668.412(d) and (e). On March 6, 2017, the Department announced that it was allowing additional time, until July 1, 2017, to comply with those requirements. On June 30, 2017 in an electronic announcement and in a notice published in the Federal Register on July 5, 2017, the Department announced that it was allowing additional time, until July 1, 2018, to comply with those requirements and invited comment (82 FR 30975). The Department received 45 comments on that action. Many commenters expressed general support for the GE regulations, while others expressed general opposition to the GE regulations. One commenter recommended the development of a mass upload tool for GE disclosure templates. Another commenter requested the Department review the information that had to be disclosed for GE programs, as they contended the disclosures were confusing to students. Other commenters provided comments on other aspects of the GE regulations, such as on the alternate earnings appeals process, the student warning requirement, and the reporting requirements.

From December 4, 2017, through March 15, 2018, the Department conducted three negotiated rulemaking sessions related to the GE regulations. The committee did not reach consensus. The Department intends to develop proposed regulations that would replace the GE regulations. As part of this rulemaking process, the Department continues to evaluate the efficacy of these disclosures to students, including the manner in which the GE regulations would require institutions make these disclosures, and the burden associated with the implementation of these requirements. As the Department continues to review the utility of these requirements in connection with the proposed rulemaking, we are allowing institutions additional time—until July 1, 2019—to comply with the provisions in 34 CFR 668.412(d) and (e). The requirements in 34 CFR 668.412(a), (b), and (c) that schools post disclosures on their program websites using the approved disclosure template provided by the Department and that those disclosures be updated annually remain in effect.

We are inviting your comments on this action. We will consider these comments in determining whether to take any future action in connection with the implementation of the disclosure requirements.

Accessible Format: Individuals with disabilities can obtain this document in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature of this site, you can limit your search to documents published by the Department.

Dated: June 13, 2018.
Betsy DeVos,
Secretary of Education.

[FR Doc. 2018-13054 Filed 6-15-18; 8:45 am]

BILLING CODE 4000-01-P